DEPARTMENT OF ENERGY

Federal Energy Regulatory Commission

Combined Notice of Filings

Take notice that the Commission has received the following Natural Gas Pipeline Rate and Refund Report filings:

Filings Instituting Proceedings

Docket Numbers: RP24-497-000.

Applicants: Southern Natural Gas Company, L.L.C.

Description: 4(d) Rate Filing: SNG Fuel Retention Rates—Summer 2024 to be effective 4/1/2024.

Filed Date: 3/1/24.

Accession Number: 20240301-5192.

Comment Date: 5 p.m. ET 3/13/24.

Docket Numbers: RP24-498-000.

Applicants: Golden Pass Pipeline LLC.

Description: Compliance filing: Golden Pass Pipeline LLC Operational Purchases and Sales Report to be effective N/A.

Filed Date: 3/1/24.

Accession Number: 20240301-5212.

Comment Date: 5 p.m. ET 3/13/24.

Docket Numbers: RP24-499-000.

Applicants: Transcontinental Gas Pipe Line Company, LLC.

Description: 4(d) Rate Filing: Annual Electric Power Tracker Filing Effective April 1 2024 to be effective 4/1/2024.

Filed Date: 3/1/24.

Accession Number: 20240301-5227.

Comment Date: 5 p.m. ET 3/13/24.

Docket Numbers: RP24-500-000.

Applicants: LA Storage, LLC.

Description: 4(d) Rate Filing: LA Storage 2024 Annual Adjustment of Fuel Retainage Percenta to be effective 3/1/2024.

Filed Date: 3/1/24.

Accession Number: 20240301-5248.

Comment Date: 5 p.m. ET 3/13/24.

Docket Numbers: RP24-501-000.

Applicants: Ozark Gas Transmission, L.L.C.

Description: Compliance filing: Ozark Gas Transmission NCA Filing to be effective 4/1/2024.

Filed Date: 3/1/24.

Accession Number: 20240301-5251.

Comment Date: 5 p.m. ET 3/13/24.

Docket Numbers: RP24-502-000.

Applicants: Golden Triangle Storage, LLC.

Description: 4(d) Rate Filing: Normal filing Part 8 changes 2024 to be effective 4/1/2024.

Filed Date: 3/1/24.

Accession Number: 20240301-5254.

Comment Date: 5 p.m. ET 3/13/24.

Docket Numbers: RP24-503-000.

Applicants: ANR Pipeline Company.

Description: 4(d) Rate Filing: ANR 2024 Fuel and EPC Filing to be effective 4/1/2024.

Filed Date: 3/1/24.

Accession Number: 20240301-5286.

Comment Date: 5 p.m. ET 3/13/24.

Docket Numbers: RP24-504-000.

Applicants: Northern Border Pipeline Company.

Description: 4(d) Rate Filing: T-1 & T-1B Fuel and Electric Surcharge to be effective 4/1/2024.

Filed Date: 3/1/24.

Accession Number: 20240301-5297.

Comment Date: 5 p.m. ET 3/13/24.

Docket Numbers: RP24-505-000.

Applicants: Golden Pass Pipeline LLC.

Description: Compliance filing: Golden Pass Pipeline LLC Annual Retainage Report 2024 to be effective 3/1/2024.

Filed Date: 3/1/24.

Accession Number:20240301-5318.

Comment Date: 5 p.m. ET 3/13/24.

Docket Numbers: RP24-506-000.

Applicants: Adelphia Gateway, LLC.

Description: Compliance filing: Adelphia Gateway SBA Filing to be effective N/A.

Filed Date: 3/1/24.

Accession Number: 20240301-5329.

Comment Date: 5 p.m. ET 3/13/24.

Docket Numbers: RP24-507-000.

Applicants: Dauphin Island Gathering Partners.

Description: 4(d) Rate Filing: Storm Surcharge 2024 to be effective 4/1/2024.

Filed Date: 3/1/24.

Accession Number: 20240301-5334.

Comment Date: 5 p.m. ET 3/13/24.

Docket Numbers: RP24-508-000.

Applicants: Rover Pipeline LLC.

Description: 4(d) Rate Filing: Summary of Negotiated Rate Capacity Release Agreements 3-4-2024 to be effective 3/1/2024.

Filed Date: 3/4/24.

Accession Number: 20240304-5091.

Comment Date: 5 p.m. ET 3/18/24.

Docket Numbers: RP24-509-000.

Applicants: Dauphin Island Gathering Partners.

Description: 4(d) Rate Filing: Chevron—Negotiated rate amendment—March 2024 to be effective 3/1/2024.

Filed Date: 3/4/24.

Accession Number: 20240304-5118.

Comment Date: 5 p.m. ET 3/18/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-327-001.

Applicants: Alliance Pipeline L.P.

Description: Compliance filing: Award of Capacity Compliance Filing—Docket RP24-327 to be effective 2/16/2024.

Filed Date: 3/4/24.

Accession Number: 20240304-5107.

Comment Date: 5 p.m. ET 3/18/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 4, 2024.
Debbie-Anne A. Reese,
Acting Secretary.

[FR Doc. 2024-05022 Filed 3-8-24; 8:45 am]

BILLING CODE 6717-01-P